DEPARTMENT OF EDUCATION

[Catalog of Federal Domestic Assistance (CFDA) Number: 84.259A]

Final Waiver and Extension of the Project Period for the Native Hawaiian Career and Technical Education Program

AGENCY: Office of Career, Technical, and Adult Education, Department of Education.

ACTION: Final waiver and extension of the project period.

SUMMARY: For the 24-month projects originally funded in fiscal year (FY) 2013 and extended for an additional 24-months in FY 2015 under the Native Hawaiian Career and Technical Education Program (NHCTEP), the Secretary: Waives the requirements in Education Department regulations that generally prohibit project period extensions involving the obligation of additional Federal funds; and extends the project period for the current seven NHCTEP grantees for an additional 12 months under the existing program authority. This waiver and extension will allow the seven current NHCTEP grantees to seek FY 2017 continuation awards for the project period through FY 2018.

DATES: As of July 17, 2017, the waiver and extension of the project period are finalized.

FOR FURTHER INFORMATION CONTACT: Linda Mayo by telephone at (202) 245-7792 or by email at: linda.mayo@ed.gov.

If you use a telecommunications device for the deaf (TDD) or a text telephone (TTY), call the Federal Relay Service, toll free, at 1-800-877-8339.

SUPPLEMENTARY INFORMATION: On April 14, 2017, we published a notice in the Federal Register (82 FR 17986) proposing to waive the requirements of 34 CFR 75.261(a) and (c)(2) that generally prohibit project period extensions involving the obligation of additional Federal funds. In that notice, the Secretary also proposed to extend the NHCTEP project period for up to an additional 12 months. The proposed waiver and extension of the project period would enable the Secretary to provide continuation awards to the current NHCTEP grantees through FY 2018 under the existing program authority.

That notice contained background information and our reasons for proposing the waiver and extension of the project period. This notice makes the waiver and extension of the project period final. Any activities carried out during the period of a NHCTEP continuation award will have to be consistent with, or a logical extension of, the scope, goals, and objectives of the grantee's application as approved in the FY 2013 NHCTEP competition. The requirements applicable to continuation awards for this competition set forth in the 2013 notice inviting applications and the requirements in 34 CFR 75.253 will apply to any continuation awards sought by the current NHCTEP grantees.

We will make decisions regarding the continuation awards based on grantee program narratives, budgets and budget narratives, and program performance reports and the requirements in 34 CFR 75.253. We will not announce a new competition or make new awards in FY 2017.

The final waiver and project period extension will not exempt the current NHCTEP grantees from the appropriation account closing provisions of 31 U.S.C. 1552(a), nor would they extend the availability of funds previously awarded to current NHCTEP grantees. As a result of 31 U.S.C. 1552(a), appropriations available for a limited period may be used for payment of valid obligations for only five years after the expiration of their period of availability for Federal obligation. After that time, the unexpended balance of those funds is canceled and returned to the U.S. Department of the Treasury and is unavailable for restoration for any purpose (31 U.S.C. 1552(b)).

Public Comment: In the April 14, 2017 notice, the Secretary invited comments on the proposed waiver and extension of the project period. We received two comments in response to the notice. There are no substantive differences between the proposed waiver and extension and the final waiver and extension. Generally, we do not address technical and other minor changes. In addition, we do not address general comments that raise concerns not directly related to the proposed waiver and extension.

Analysis of Comments and Discussion

Comments: All commenters supported the proposed waiver and extension of the NHCTEP project period. The commenters provided various reasons for their support.

One commenter, a CTE director, stated that a competitive grant process would delay the current NHCTEP grantees' training services, as well as outreach, recruitment, academic, and retention efforts, and would cause a lapse in services to Native Hawaiian students. The commenter further stated that issuing a waiver and extension would allow educators and staff to continue providing specialized CTE training, including certifications, internships, and well-paying job placements, which would maximize the participation and completion of Native Hawaiian students in Perkins-supported CTE programs. The commenter also stated that an extension would help maintain continuity to provide career and technical services to the Native Hawaiian community and students, some of whom have special needs or are at-risk students.

Another commenter, a teacher, stated that because of the NHCTEP grant, certain high school students graduated on time, were placed in postsecondary education, and are now successfully working in their chosen professions. Also, the commenter stated that teachers benefit from the NHCTEP through professional development opportunities. The commenter further stated that students are able to learn skills using the tools needed to be proficient according to industry standards and that the extension would ensure continuation and continuity of CTE for Native Hawaiian students, who would otherwise be subject to a decrease in educational support and support services.

Discussion: We appreciate the support of the commenters and agree that extending the current NHCTEP grant period will allow current NHCTEP grantees to continue to work toward accomplishing the goals and objectives stated in their 2013 NHCTEP grant applications, including providing specialized CTE training to Native Hawaiian students. We agree that it is important that there not be a lapse in programming provided by NHCTEP grantees to CTE students.

Changes: None.

Waiver of Delayed Effective Date

The Administrative Procedure Act (APA) requires that a substantive rule must be published at least 30 days before its effective date, except as otherwise provided for good cause (5 U.S.C. 553(d)(3)). The Secretary has determined that a delayed effective date is unnecessary and contrary to the public interest. It is unnecessary because we received only two public comments on this action, both of which supported our proposal, and we have not made any substantive changes to the proposal. It is contrary to public interest because we would not be able to make timely continuation grants to the seven affected entities with the delay. Therefore, the Secretary waives the APA's delayed effective date provision for good cause.

Regulatory Flexibility Act Certification

The Secretary certifies that the final waiver and extension and the activities required to support additional months of funding would not have a significant economic impact on a substantial number of small entities. The small entities that would be affected by this final waiver and extension are the seven currently funded NHCTEP grantees and any other potential applicants. The extension of an existing project imposes minimal compliance costs, and the activities required to support the additional year of funding would not impose additional regulatory burdens or require unnecessary Federal supervision.

Paperwork Reduction Act of 1995

This notice of final waiver and extension does not contain any information collection requirements.

Intergovernmental Review

The NHCTEP is not subject to Executive Order 12372 and the regulations in 34 CFR part 79.

Accessible Format: Individuals with disabilities can obtain this document in an accessible format (e.g., Braille, large print, audiotape, or compact disc) on request to the contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature at this site, you can limit your search to documents published by the Department.

Dated: July 11, 2017.
Kim R. Ford,
Deputy Assistant Secretary for Career, Technical, and Adult Education, delegated the duties of the Assistant Secretary for Career, Technical, and Adult Education.

[FR Doc. 2017-14832 Filed 7-14-17; 8:45 am]

BILLING CODE 4000-01-P